DEPARTMENT OF ENERGY

U.S. Energy Information Administration

Agency Information Collection Extension

AGENCY: U.S. Energy Information Administration (EIA), Department of Energy.

ACTION: Notice and Request for Comments.

SUMMARY: The EIA invites public comment on the proposed collection of information involving a three-year extension of the following Oil and Gas Reserves System Survey Forms that EIA is developing for submission to the Office of Management and Budget (OMB) pursuant to the Paperwork Reduction Act of 1995: Form EIA-23L Annual Survey of Domestic Oil and Gas Reserves, Field Level Report; Form EIA-23S Annual Survey of Domestic Oil and Gas Reserves, Summary Level Report; and Form EIA-64A Annual Report of the Origin of Natural Gas Liquids.

Comments are invited on: (a) Whether the proposed extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments must be filed by August 6, 2012. If you anticipate difficulty in submitting comments within that period, contact the person listed in the below ADDRESSES Section as soon as possible.

ADDRESSES: Written comments may be sent to Mr. Steven Grape, EI-24 U. S. Department of Energy, 1000 Independence Avenue SW., Washington DC 20585, or by fax at (202) 586-4420, or by email at steven.grape@eia.gov.

FOR FURTHER INFORMATION CONTACT: Requests for additional information or copies of the information collection instrument and instructions should be directed to Mr. Grape, as listed above.

SUPPLEMENTARY INFORMATION: This information collection request contains:

(1) OMB No. 1905-0057;

(2) Information Collection Request Title: Oil and Gas Reserves System;

(3) Type of Request: Extension, without change, of the currently approved Form EIA-23L, Form EIA-23S, and Form EIA-64A;

(4) Purpose: In response to Section 657 of the Department of Energy Organization Act of 1977, Public Law 95-91, estimates of U.S. oil and gas reserves are to be reported annually. Many U. S. government agencies have an interest in the definitions of proved oil and gas reserves and the quality, reliability, and usefulness of estimates of reserves. The U.S. Energy Information Administration (EIA), Department of Energy has a congressional mandate to provide accurate annual estimates of U.S. proved crude oil, natural gas, and natural gas liquids reserves, and EIA presents annual reserves data in EIA Web reports to meet this requirement.

The Government also uses the resulting information to develop national and regional estimates of proved reserves of domestic crude oil, natural gas, and natural gas liquids to facilitate national energy policy decisions. These estimates are essential to the development, implementation, and evaluation of energy policy and legislation. Data are used directly in EIA Web reports concerning U.S. crude oil, natural gas, and natural gas liquids reserves and are incorporated into a number of other Web reports and analyses. Secondary reports that use the data include EIA's Annual Energy Review, Annual Energy Outlook, Petroleum Supply Annual, and Natural Gas Annual;

(5) Annual Estimated Number of Total Responses:

Forms EIA-23L/23S/64A: 1,701;

(6) Annual Estimated Number of Burden Hours:

Form EIA-23L Annual Survey of Domestic Oil and Gas Reserves, Field Level Report: 32 hours (intermediate-size operators); 160 hours (large operators);

Form EIA-23S Annual Survey of Domestic Oil and Gas Reserves, Summary Level Report: 4 hours (small operators);

Form EIA-64A Annual Report of the Origin of Natural Gas Liquids Production: 6 hours (natural gas plant operators);

(7) Annual Estimated Reporting and Recordkeeping Cost Burden: Forms EIA-23L/23S/64A: Zero.

Statutory Authority: Section 13(b) of the Federal Energy Administration Act of 1974, Public Law 93-275, codified at 15 U.S.C. 772(b) and Section 657 of the Department of Energy Organization Act, Public Law 95-91.

Issued in Washington, DC, May 30, 2012.
Renee Miller,
Acting Director, Office of Survey Development and Statistical Integration, U.S. Energy Information Administration.

[FR Doc. 2012-13668 Filed 6-5-12; 8:45 am]

BILLING CODE 6450-01-P